DEPARTMENT OF STATE

[Public Notice 5967]

U.S. Department of State Advisory Committee on Private International Law: Public Meeting on the United Nations Commission on International Trade Law (UNCITRAL) Draft Legislative Guide on Secured Transactions and its Treatment of Security Rights in Intellectual Property (IP)

The Department of State Advisory Committee on Private International Law (ACPIL) will hold a public meeting to discuss the treatment of IP secured financing practices in the UNCITRAL Draft Legislative Guide on Secured Transactions (Guide). At the 40th Session of the UNCITRAL (held June 25 through July 12, 2007), the Commission adopted a portion of the draft Guide, and scheduled adoption of the remaining portion for a second meeting of the Commission to take place in Vienna, Austria December 10-14, 2007. The Commission at its July 2007 session adopted recommendations dealing with the scope of the draft Guide as it relates to IP law and secured financing, as well as the inclusion in the commentary to the Guide of explanatory statements on the treatment of IP as secured financing. The Commission also tentatively approved a new work project on IP law matters as they relate to secured financing law, which would be initiated after conclusion of the Guide in its present scope. The first meeting on the new IP related project may occur in the spring of 2008. A top priority for the resumed Session is final adoption of the revised commentary and draft Guide. The ACPIL will use this public meeting to exchange thoughts on the draft Guide as it relates to IP secured financing matters with a view to determining what areas would need to be addressed in UNCITRAL's second phase of work. The draft UNCITRAL Legislative Guide on Secured Transactions and relevant information can be obtained at http://www.uncitral.org/english/commission/sessions.

Time: The public meeting will take place at the Department of State, Office of Private International Law, 2430 E Street, NW., Washington, DC on Wednesday November 28, 2007 from 1 p.m. EDT to 5:30 p.m. EDT. Public Participation: Advisory Committee Study Group meetings are open to the public, subject to the capacity of the meeting room. Access to the meeting building is controlled; persons wishing to attend should contact Tricia Smeltzer or Maya Garrett of the Department of State's Legal Adviser's Office at SmeltzerTK@State.gov or GarrettM@State.gov and provide your name, e-mail address, mailing address, and affiliation(s) to get admission to the meeting and to get directions to the office. Additional meeting information can also be obtained from Rachel Wallace at WallaceRA@state.gov or telephone (202) 647-2324. Persons who cannot attend but who wish to comment on any of the proposals are welcome to do so by e-mail to Michael Dennis at DennisMJ@state.gov. If you are unable to attend the public meeting and you would like to participate by teleconferencing, please contact Tricia Smeltzer or Maya Garrett at 202-776-8420 to receive the conference call-in number and the relevant information.

Dated: November 6, 2007.
Michael Dennis,
Attorney-Adviser, Office of the Legal Adviser, Office of Private International Law, Department of State.

[FR Doc. E7-22139 Filed 11-9-07; 8:45 am]

BILLING CODE 4710-08-P